DEPARTMENT OF TRANSPORTATION

Federal Aviation Administration

14 CFR Part 91

[Docket No. FAA-2015-8672; Amdt. No. 91-340D]

RIN 2120-AL69

Extension of the Prohibition Against Certain Flights in the Sanaa Flight Information Region (FIR) (OYSC)

AGENCY: Federal Aviation Administration (FAA), Department of Transportation (DOT).

ACTION: Final rule; technical amendment.

SUMMARY: On December 7, 2021, the Federal Aviation Administration (FAA) published a final rule in the Federal Register to extend the Special Federal Aviation Regulation (SFAR) prohibiting certain flights in the specified areas of the Sanaa Flight Information Region (FIR) (OYSC) by all: U.S. air carriers; U.S. commercial operators; persons exercising the privileges of an airman certificate issued by the FAA, except when such persons are operating U.S.-registered aircraft for a foreign air carrier; and operators of U.S.-registered civil aircraft, except when the operator of such aircraft is a foreign air carrier. Subsequently, the FAA became aware that the International Civil Aviation Organization (ICAO) amended waypoints the FAA uses to demarcate the boundary between the airspace in which U.S. operators are prohibited from conducting operations and the airspace in which U.S. operators are permitted to operate. The FAA is publishing this technical amendment to update its regulations to reflect the current waypoint names and locations.

DATES: This final rule is effective on September 22, 2023.

FOR FURTHER INFORMATION CONTACT: Bill Petrak, Air Transportation Division, Flight Standards Service, through the Washington Operations Center, Federal Aviation Administration, 800 Independence Avenue SW, Washington, DC 20591; telephone (202) 267-3203; email 9-FAA-OverseasFlightProhibitions@faa.gov.

SUPPLEMENTARY INFORMATION:

I. Good Cause for Immediate Adoption

Section 553(b)(B) of title 5, U.S. Code, authorizes agencies to dispense with notice and comment procedures for rules when the agency for “good cause” finds that those procedures are “impracticable, unnecessary, or contrary to the public interest.” Also, section 553(d) permits agencies, upon a finding of good cause, to issue rules with an effective date less than 30 days from the date of publication. In this instance, the FAA finds good cause to forgo notice and comment and the delayed effective date because they would be unnecessary.

This action is a technical amendment that is limited to updating existing regulations to reflect the current waypoint names and locations. The amendment will not impose any additional substantive restrictions or requirements on the persons affected by these regulations and the FAA finds that notice and public comment under 5 U.S.C. 553(b) is unnecessary. For the same reason, the FAA finds that good cause exists under 5 U.S.C. 553(d) for making this rule effective in less than 30 days.

Accordingly, the FAA finds good cause exists to forgo notice and comment and any delay in the effective date for this rule.

II. Background

On December 7, 2021, the FAA published a final rule ¹ in the Federal Register extending the prohibition against certain flights in the specified areas of the Sanaa FIR (OYSC) by all: U.S. air carriers; U.S. commercial operators; persons exercising the privileges of an airman certificate issued by the FAA, except when such persons are operating U.S.-registered aircraft for a foreign air carrier; and operators of U.S.-registered civil aircraft, except when the operator of such aircraft is a foreign air carrier. Specifically, that final rule continued to prohibit all persons described in paragraph (a) of SFAR No. 115, title 14 Code of Federal Regulations (CFR), § 91.1611, from conducting civil flight operations in the specified areas of the Sanaa FIR (OYSC), as described in paragraph (b) of the rule, until January 7, 2025, due to the significant, continuing safety-of-flight risks to U.S. civil aviation operations in that airspace associated with the conflict between the Saudi Arabian-led Coalition (SLC) and Iranian-aligned Houthi forces.

¹ Extension of the Prohibition Against Certain Flights in Specified Areas of the Sanaa Flight Information Region (FIR) (OYSC) final rule, 86 FR 69167 (Dec. 7, 2021).

Subsequently, the FAA became aware the International Civil Aviation Organization (ICAO) Middle East Air Navigation Planning and Implementation Regional Group approved an update to the Regional Air Navigation Plan to amend certain waypoints. Some of the amendments affected waypoints used by the FAA to demarcate the boundary between the airspace in which U.S. operators are prohibited from conducting operations and the airspace in which U.S. operators are permitted to operate. To address the amendments of waypoints, this technical amendment identifies the new waypoint names and locations to clarify where U.S. operators are prohibited from conducting operations due to flight safety risks associated with the conflict in Yemen and where they are permitted to operate.

The following table lists the changes being made.

Table 1—Previous and Current Waypoint Names and Locations
Previous waypoint name | Previous location | Current waypoint name | Current location
KAPET | 163322N 0530614E | KAPET | 163322N 0530614E
NODMA | 152603N 0533359E | NODMA | 152603N 0533359E
ORBAT | 140638N 0503924E | IMPAG | 140638N 0503924E
PAKER | 115500N 0463500E | TIMAD | 115500N 0463500E
PARIM | 123142N 0432712E | PARIM | 123200N 0432720E
RIBOK | 154700N 0415230E | RIBOK | 154700N 0415230E

The FAA notes that the updated Regional Air Navigation Plan relocated the waypoint PARIM slightly, from 123142N 0432712E to 123200N 0432720E. The FAA has determined that this minor change in the location of the PARIM waypoint does not alter the FAA's assessment that PARIM is an appropriate waypoint to use to demarcate the boundary between the airspace where U.S. operators are prohibited from conducting operations due to flight safety risks associated with the conflict in Yemen and where they are permitted to operate, as the inadvertent risk emanating from potential air defense operations is primarily confined to Yemen's land territory.

III. Technical Amendment

Consistent with the foregoing:

Prohibited Operations. U.S. civil aviation operations remain prohibited in the Sanaa FIR (OYSC) in that airspace west of a line drawn direct from KAPET (163322N 0530614E) to NODMA (152603N 0533359E), northwest of a line drawn direct from NODMA to IMPAG (140638N 0503924E) then from IMPAG to TIMAD (115500N 0463500E), north of a line drawn direct from TIMAD to PARIM (123200N 0432720E), and east of a line drawn direct from PARIM to RIBOK (154700N 0415230E). Use of jet route UN303 is not authorized.

Permitted Operations. U.S. civil aviation operations remain permitted in the Sanaa FIR (OYSC) in that airspace east of a line drawn direct from KAPET (163322N 0530614E) to NODMA (152603N 0533359E), southeast of a line drawn direct from NODMA to IMPAG (140638N 0503924E) then from IMPAG to TIMAD (115500N 0463500E), south of a line drawn direct from TIMAD to PARIM (123200N 0432720E), and west of a line drawn direct from PARIM to RIBOK (154700N 0415230E). Use of jet routes UT702 and M999 are authorized.

List of Subjects in 14 CFR Part 91

Air traffic control, Aircraft, Airmen, Airports, Aviation safety, Freight, Yemen.

The Amendment

In consideration of the foregoing, the Federal Aviation Administration amends chapter I of title 14, Code of Federal Regulations, as follows:

PART 91—GENERAL OPERATING AND FLIGHT RULES

1. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

2. Amend § 91.1611 by revising paragraphs (b) and (c) to read as follows:

§ 91.1611 Special Federal Aviation Regulation No. 115—Prohibition Against Certain Flights in Specified Areas of the Sanaa Flight Information Region (FIR) (OYSC).

* * * * *

(b) Flight prohibition. Except as provided in paragraphs (c) and (d) of this section, no person described in paragraph (a) of this section may conduct flight operations in the portion of the Sanaa Flight Information Region (FIR) (OYSC) that is west of a line drawn direct from KAPET (163322N 0530614E) to NODMA (152603N 0533359E), northwest of a line drawn direct from NODMA to IMPAG (140638N 0503924E) then from IMPAG to TIMAD (115500N 0463500E), north of a line drawn direct from TIMAD to PARIM (123200N 0432720E), and east of a line drawn direct from PARIM to RIBOK (154700N 0415230E). Use of jet route UN303 is not authorized.

(c) Permitted operations. This section does not prohibit persons described in paragraph (a) of this section from conducting flight operations in the Sanaa FIR (OYSC) under the following circumstances:

(1) Permitted operations that do not require an approval or exemption from the FAA. Flight operations may be conducted in the Sanaa FIR (OYSC) in that airspace east of a line drawn direct from KAPET (163322N 0530614E) to NODMA (152603N 0533359E), southeast of a line drawn direct from NODMA to IMPAG (140638N 0503924E) then from IMPAG to TIMAD (115500N 0463500E), south of a line drawn direct from TIMAD to PARIM (123200N 0432720E), and west of a line drawn direct from PARIM to RIBOK (154700N 0415230E). Use of jet routes UT702 and M999 are authorized. All flight operations conducted under this subparagraph must be conducted subject to the approval of, and in accordance with the conditions established by, the appropriate authorities of Yemen.

(2) Operations permitted under an approval or exemption issued by the FAA. Flight operations may be conducted in the Sanaa FIR (OYSC) in that airspace west of a line drawn direct from KAPET (163322N 0530614E) to NODMA (152603N 0533359E), northwest of a line drawn direct from NODMA to IMPAG (140638N 0503924E) then from IMPAG to TIMAD (115500N 0463500E), north of a line drawn direct from TIMAD to PARIM (123200N 0432720E), and east of a line drawn direct from PARIM to RIBOK (154700N 0415230E) if such flight operations are conducted under a contract, grant, or cooperative agreement with a department, agency, or instrumentality of the U.S. Government (or under a subcontract between the prime contractor of the U.S. Government department, agency, or instrumentality and the person subject to paragraph (a)), with the approval of the FAA, or under an exemption issued by the FAA. The FAA will consider requests for approval or exemption in a timely manner, with the order of preference being: First, for those operations in support of U.S. Government-sponsored activities; second, for those operations in support of government-sponsored activities of a foreign country with the support of a U.S. government department, agency, or instrumentality; and third, for all other operations.

* * * * *

Issued in Washington, DC, under the authority of 49 U.S.C. 106(f) and (g), 40101(d)(1), 40105(b)(1)(A), and 44701(a)(5), on September 15, 2023.
Brandon Roberts,
Executive Director, Office of Rulemaking.

[FR Doc. 2023-20530 Filed 9-21-23; 8:45 am]

BILLING CODE 4910-13-P